DEPARTMENT OF THE TREASURY

Internal Revenue Service

26 CFR Part 1

[TD 9340]

RIN 1545-BB64

Revised Regulations Concerning Section 403(b) Tax-Sheltered Annuity Contracts; Correction

AGENCY: Internal Revenue Service (IRS), Treasury.

ACTION: Correction to final regulations.

SUMMARY: This document contains a correction to final regulations (TD 9340) that were published in the Federal Register on Thursday, July 26, 2007 (72 FR 41128) providing updated guidance on section 403(b) contracts of public schools and tax-exempt organizations described in section 501(c)(3). These regulations will affect sponsors of section 403(b) contracts, administrators, participants, and beneficiaries.

DATES: The correction is effective October 26, 2010, and is applicable on July 26, 2007.

FOR FURTHER INFORMATION CONTACT: Concerning the regulations, John Tolleris at(202) 622-6060; concerning the regulations as applied to church-related entities, Sherri Edelman or Jason Levine at (202) 283-9634 (not toll-free numbers).

SUPPLEMENTARY INFORMATION:

Background

The final regulations that are the subject of this correction are under section 403(b)of the Internal Revenue Code.

Need for Correction

As published, final regulations (TD 9340) contain an error that may prove to be misleading and is in need of clarification.

Correction of Publication

Accordingly, the publication of the final regulations (TD 9340), which was the subject of FR Doc. 07-3649, is corrected as follows:

On page 41138, column 2, in the preamble, under footnote number 11, line 26,the language “Rev. Rul. 66-254 (1966-2 CB. 125)” is removed.

LaNita Van Dyke,
Chief, Publications and Regulations Branch,Legal Processing Division,Associate Chief Counsel(Procedure and Administration).

[FR Doc. 2010-26980 Filed 10-25-10; 8:45 am]

BILLING CODE 4830-01-P